DEPARTMENT OF DEFENSE

Department of the Air Force

Environmental Impact Statement (EIS) for Construction and Operation of a Panoramic Survey Telescope and Rapid Response System (Pan-STARRS) at the Summit of Mauna Kea, HI

ACTION: Cancellation of Pan-STARRS EIS.

SUMMARY: Pursuant to the National Environmental Policy Act (NEPA) of 1969, as amended (42 United States Code 4321, et seq.), the Council on Environmental Quality Regulations for implementing the procedural provisions of NEPA (40 Code of Federal Regulation (CFR) Parts 1500-1508), and U.S. Air Force (USAF) policy and procedures (32 CFR part 989), the USAF issued a notice on 10 Jan 07 advising the public of its intent to prepare an EIS evaluating potential environmental impacts associated with construction and operation of the proposed Panoramic Survey Telescope and Rapid Response System (Pan-STARRS) by the University of Hawaii (UH) Institute for Astronomy (IfA). Pan-STARRS was to be a USAF-funded, UH IfA research program to discover, characterize and track Near-Earth Objects (NEOs), primarily asteroids and comets, whose trajectories pass close enough to Earth that they may pose a danger of collision.

FOR FURTHER INFORMATION CONTACT: Please direct any written comments or requests for information to Ms. Connie Rankin, Office of Public Affairs, 377 ABW/PA, 3550 Aberdeen Ave., SE., Kirtland AFB, NM 87117-5776 (Phone: 505-846-4321; e-mail Connie.Rankin@kirtland.af.mil).

Bao-Anh Trinh,
GS-14, DAF, Air Force Federal Register Liaison Officer.

[FR Doc. 2010-30760 Filed 12-7-10; 8:45 am]

BILLING CODE 5001-10-P